DEPARTMENT OF ENERGY

Federal Energy Regulatory Commission

[Project No. 2639-028]

Northern States Power Company-Wisconsin; Notice of Intent To Prepare an Environmental Assessment

On November 30, 2021, Northern States Power Company-Wisconsin filed an application for a new major license to continue operating the existing, licensed, 30.75-megawatt Cornell Hydroelectric Project No. 2639 (Cornell Project). The project is located on the Lower Chippewa River, in the township of Cornell, in Chippewa County, Wisconsin. The project does not occupy Federal land.

In accordance with the Commission's regulations, on July 14, 2023, Commission staff issued a notice that the project was ready for environmental analysis (REA notice). Based on the information in the record staff does not anticipate that licensing the project would constitute a major Federal action significantly affecting the quality of the human environment. Therefore, staff intends to prepare an Environmental Assessment (EA) on the application to license the Cornell Project.

The EA will be issued and circulated for review by all interested parties. All comments filed on the EA will be analyzed by staff and considered in the Commission's final licensing decision.

The application will be processed according to the following schedule. Revisions to the schedule may be made as appropriate.

Milestone | Target date
Commission issues EA | April 2024 ¹
Comments on EA | May 2024.
¹ The Council on Environmental Quality's (CEQ) regulations under 40 CFR 1501.10(b)(1) require that EAs be completed within 1 year of the Federal action agency's decision to prepare an EA. This notice establishes the Commission's intent to prepare an EA for the Cornell Project. Therefore, in accordance with CEQ's regulations, the EA must be issued within 1 year of the issuance date of this notice.

Any questions regarding this notice may be directed to Michael Davis at Michael.davis@ferc.gov or call at 202-502-8339.

Dated: November 9, 2023.
Kimberly D. Bose,
Secretary.

[FR Doc. 2023-25398 Filed 11-16-23; 8:45 am]

BILLING CODE 6717-01-P